DEPARTMENT OF LABOR

Occupational Safety and Health Administration

29 CFR Part 1926

[Docket No. S-030]

RIN 1218-AC01

Safety Standards for Cranes and Derricks

AGENCY: Occupational Safety and Health Administration (OSHA), Department of Labor.

ACTION: Notice of proposed Negotiated Rulemaking Committee membership; request for comments.

SUMMARY: The Occupational Safety and Health Administration is planning to establish a Crane and Derrick Negotiated Rulemaking Advisory Committee (C-DAC) under the Negotiated Rulemaking Act (NRA) and the Federal Advisory Committee Act (FACA). The Committee will negotiate issues associated with the development of a proposed revision of the existing construction safety standards for the cranes and derricks portion. The Committee will include representatives of parties who would be significantly affected by the final rule. The public may submit comments on the proposed list of members.

DATES: Comments submitted by mail must be postmarked not later than March 31, 2003. Emailed or faxed comments must be received by March 31, 2003.

ADDRESSES: Written comments may be submitted in any of three ways: by mail, by fax, or by email. Please include “Docket No. S-030” on all submissions.

By mail, the address is: OSHA Docket Office, Docket No. S-030, U.S. Department of Labor, 200 Constitution Avenue, NW., Room N-2625, Washington, DC 20210, telephone (202) 693-2350. Note that receipt of comments submitted by mail may be delayed by several weeks.

By fax, written comments that are 10 pages or fewer, may be transmitted to the OSHA Docket Office at telephone number (202) 693-1648.

By email, comments may be submitted through OSHA's Homepage at ecomments.osha.gov. Please note that you may not attach materials such as studies or journal articles to your electronic comments. If you wish to include such materials, you must submit three copies to the OSHA Docket Office at the address listed above. When submitting such materials to the OSHA Docket Office, clearly identify your electronic comments by name, date, subject, and Docket Number, so that we can attach the materials to your electronic comments.

FOR FURTHER INFORMATION CONTACT: Mark Hagemann, Office of Construction Standards and Compliance Assistance, Occupational Safety and Health Administration, U.S. Department of Labor, Room N-3468, 200 Constitution Avenue, NW., Washington, DC 20210; Telephone: (202) 693-2345.

SUPPLEMENTARY INFORMATION: On July 16, 2002, OSHA published a Federal Register notice of intent to establish a negotiated rulemaking committee (67 FR 46612). The notice requested nominations for membership on the Committee and comments on the appropriateness of using negotiated rulemaking to develop a crane and derrick proposed rule. In addition, the notice described the negotiated rulemaking process and identified some key issues for negotiation.

Fifty-five nominations for membership on the Committee and several comments were received during the comment period. There was broad support for using negotiated rulemaking to update the standard. OSHA has decided to go forward with the negotiated rulemaking process. The Agency has developed the following proposed list of Committee members:

Manufacturers and Suppliers

Michael Brunet, Manitowoc Cranes, Inc., 2401 S. 30th Street, Manitowoc, WI 54220.

Peter Juhren, Morrow Equipment Company, L.L.C., 3218 Pringle Road, SE., Salem, OR 97302.

Larry Means, Wire Rope Technical Board, 801 North Fairfax Street, Suite 211, Alexandria, VA 22314.

Lessors/Maintenance

William Smith, Maxim Crane Works, 508-C DiGiulian Blvd., Glen Burnie, MD 21061.

Users—Employers

Joseph Collins, Zachry Construction Corporation, P.O. Box 240130,

San Antonio, TX 78224.

Brian Murphy, Sundt Corporation, 4101 E Irvington Road, Tucson, AZ 85726.

George R. “Chip” Pocock, C.P. Buckner Steel Erection, P.O. Box 598, Graham, NC 27253.

Craig Steele, Schuck & Sons Construction Company, Inc., 8205 North 67th Avenue, Glendale, AZ 85302.

Darlaine Taylor, Century Steel Erectors, Inc., 210 Washington Avenue, Dravosburg, Pennsylvania 15034.

William J. “Doc” Weaver, 8065 S. Overhill Circle, Salt Lake City, UT 84121.

Robert Weiss, Cranes Inc. and A.J. McNulty & Company, Inc., 53-20 44th Street, Maspeth NY 11378.

Stephen Wiltshire, Shirley Contracting Corporation, 6108 Waterman Drive, Fredericksburg, VA 22407.

Users—Labor Organizations

Frank Migliaccio, International Association of Bridge, Structural, Ornamental and Reinforcing Iron Workers, 1750 New York Ave., NW., Suite 400, Washington, DC 20006.

Dale Shoemaker, Carpenters International Training Center, 6801 Placid Street, Las Vegas, NV 89119.

Operators—Labor Organizations

Stephen Brown, International Union of Operating Engineers, 1125 17th Street, NW., Washington, DC 20036.

Emmett Russell, International Union of Operating Engineers, 1125 17th Street, NW., Washington, DC 20036.

Government/Public Entities

Noah Connell, U.S. Department of Labor/OSHA, 200 Constitution Ave., NW., Room N-3467, Washington, DC 20210.

Training and Operator Testing

David Ritchie, The St. Paul Companies, P.O. Box 1419, Bastrop, TX 78602.

Power line Owners

Michael Hyland, American Public Power Association, 2301 m Street, NW., Washington, DC 20037.

Insurance

Charles Yorio, Acordia, Two Gateway Center, 603 Stanwix Street, Suite 1900, Pittsburgh, PA 15222.

After evaluating the comments on the proposed list of Committee members, OSHA will publish a notice of establishment of the Cranes and Derricks Negotiated Rulemaking Advisory Committee followed by a notice of the first Committee meeting and appointment of members.

Authority: This document was prepared under the direction of John L. Henshaw, Assistant Secretary of Labor for Occupational Safety and Health, U.S. Department of Labor, 200 Constitution Avenue, NW., Washington, DC 20210, pursuant to section 3 of the Negotiated Rulemaking Act of 1990, (5 U.S.C. 561 et seq.), FACA (5 U.S.C. Appendix 2), the Occupational Safety and Health Act of 1970 (29 U.S.C. 651 et seq.), and Secretary of Labor's Order No. 3-2000 (65 FR 50017, Aug. 16, 2000).

Signed in Washington, DC, this 19th day of February, 2003.
John L. Henshaw,
Assistant Secretary of Labor for Occupational Safety and Health.

[FR Doc. 03-4560 Filed 2-26-03; 8:45 am]

BILLING CODE 4510-26-P